DEPARTMENT OF TRANSPORTATION

Federal Aviation Administration

14 CFR Part 95

[Docket No. 30794; Amdt. No. 495]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, August 25, 2011.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on July 22, 2011.
John M. Allen,
Director, Flight Standards Service.

Adoption of the Amendment

Accordingly, pursuant to the authority delegated to me by the Administrator, part 95 of the Federal Aviation Regulations (14 CFR part 95) is amended as follows effective at 0901 UTC, August 25, 2011.

PART 95 [AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points

Amendment 495

Effective Date August 25, 2011

From | To | MEA | MAA
§ 95.3000 Low Altitude RNAV Routes
§ 95.3502 RNAV Route TK502 Is Added To Read
95.3502 RNAV Route TK502
Westminster, MD VORTAC | Taylo, MD FIX | 2700 | 17500
Taylo, MD FIX | Wingo, PA FIX | * 2500 | 17500
* 2000-MOCA
Wingo, PA FIX | Sinon, PA FIX | 2400 | 17500
Sinon, PA FIX | Gribl, PA FIX | 2400 | 17500
Gribl, PA FIX | Tolan, NJ FIX | 2100 | 17500
Tolan, NJ FIX | Balde, NY FIX | * 2100 | 17500
* 1500-MOCA
Balde, NY FIX | Spate, NY FIX | * 2100 | 17500
* 1400-MOCA
Spate, NY, FIX | Deckr, NY FIX | 2100 | 17500
§ 95.3504 RNAV Route TK504 Is Added To Read
95.3504 RNAV Route TK504
Rusey, MD FIX | Cidob, MD FIX | * 1800 | 17500
* 1500-MOCA
Cidob, MD FIX | Hamor, PA FIX | 2300 | 17500
Hamor, PA FIX | Arcum, PA FIX | * 2300 | 17500
* 2000-MOCA
Arcum, PA FIX | Tully, PA FIX | 2600 | 17500
Tully, PA FIX | Borke, NJ FIX | 2000 | 17500
Borke, NJ FIX | Banka, NJ FIX | 2000 | 17500

From | To | MEA
§ 95.6001 Victor Routes—U.S.
§ 95.6002 VOR Federal Airway V2 Is Amended To Read in Part
Livingston, MT VOR/DME | Reepo, MT FIX | 9700
Colus, MT FIX | Billings, MT VORTAC. |
| W BND | 9000
| E BND | 6400
§ 95.6026 VOR Federal Airway V26 Is Amended To Read in Part
Wausau, WI VORTAC | Green Bay, WI VORTAC | # 3000
# GNSS Required |  |
§ 95.6036 VOR Federal Airway V36 Is Amended To Read in Part
# Elmira, NY VOR/DME | Hawly, PA FIX | * 4500
* GNSS MEA. |  |
# Elmira R-122 Unusable below FL180 Beyond 40 NM. |  |
§ 95.6056 VOR Federal Airway V56 Is Amended To Read in Part
Florence, SC VORTAC | Fayetteville, NC VOR/DME | 2300
§ 95.6086 VOR Federal Airway V86 Is Amended To Read in Part
Livingston, MT VOR/DME | Reepo, MT FIX | 9700
Colus, MT FIX | Billings, MT VORTAC. |
| W BND | 9000
| E BND | 6400
§ 95.6094 VOR Federal Airway V94 Is Amended To Read in Part
Greenville, MS VOR/DME | Holly Springs, MS VORTAC | * 3000
* 2100-MOCA |  |
§ 95.6097 VOR Federal Airway V97 Is Amended To Read in Part
Seminole, FL VORTAC | Pecan, GA VORTAC | 2100
§ 95.6119 VOR Federal Airway V119 Is Amended To Read in Part
Newcombe, KY VORTAC | Croup, OH FIX | 2800
Croup, OH FIX | Henderson, WV VORTAC | * 5500
* 2400-MOCA |  |
* 2800-GNSS MEA |  |
§ 95.6128 VOR Federal Airway V128 Is Amended To Read in Part
York, KY VORTAC | CROUP, OH FIX | * 3300
* 2300-MOCA |  |
Croup, OH FIX | Ruley, WV FIX | 3200
Ruley, WV FIX | Charleston, WV VORTAC | 3600
§ 95.6155 VOR Federal Airway V155 Is Amended To Read in Part
Chesterfield, SC VOR/DME | Lills, NC FIX | 2300
Lills, NC FIX | Sandhills, NC VORTAC | * 8000
* 2000-MOCA |  |
* 2400-GNSS MEA |  |
§ 95.6157 VOR Federal Airway V157 Is Amended To Read in Part
Waycross, GA VORTAC | # Alma, GA VORTAC | 2000
# Alma R-189 Unusable use Waycross R-009. |  |
Florence, SC VORTAC | Fayetteville, NC VOR/DME | 2300
§ 95.6270 VOR Federal Airway V270 Is Amended To Read in Part
Delancey, NY VOR/DME | Athos, NY FIX | 6300
Athos, NY FIX | Chester, MA VOR/DME | * 4500
* 4000-MOCA |  |
§ 95.6292 VOR Federal Airway V292 Is Amended To Read in Part
Sages, NY FIX | * Wigan, NY FIX | ** 10000
* 4500-MRA |  |
** 6400-MOCA |  |
** 7000-GNSS MEA |  |
* Wigan, NY FIX | # Barnes, MA VORTAC | ** 10000
* 4500-MRA |  |
** 4900-MOCA |  |
** 5000-GNSS MEA |  |
# BARNES R-279 Unusable BYD 50 NM. |  |
§ 95.6325 VOR Federal Airway V325 Is Amended To Read in Part
Dalas, GA FIX | Caran, GA FIX | # * 5000
* 3700-MOCA |  |
# GNSS MEA |  |
Caran, GA FIX | # Gadsden, AL VOR/DME | * 5000
* 4200-MOCA |  |
# Gadsden R-089 Unusable BYD 47NM Except for ACFT Equipped with Suitable RNAV System With GPS. |  |
§ 95.6520 VOR Federal Airway V520 Is Amended To Read in Part
Salmon, ID VOR/DME | *Dubois, ID VORTAC | 13600
* 9000-MCA Dubois, ID VORTAC, E BND |  |
* 10600-MCA Dubois, ID VORTAC, W BND |  |
§ 95.6521 VOR Federal Airway V52 Is Amended To Read in Part
# Cross City, FL VORTAC | Hevvn, FL FIX | * 5000
* 1400-MOCA |  |
* 2000-GNSS MEA |  |
# Cross City R-289 Unusable Beyond 60 NM. |  |
Hevvn, FL FIX | Teres, FL FIX | * 2000
* 1300-MOCA |  |
* GNSS MEA |  |
* GNSS Required |  |
Teres, FL FIX | Cress, FL FIX | * 4000
* 1400-MOCA |  |
* 2000-GNSS MEA |  |
§ 95.6535 VOR Federal Airway V535 Is Amended To Read in Part
Sidon, MS VORTAC | Holly Springs, MS VORTAC | * 3000
*2100-MOCA |  |
§ 95.6578 VOR Federal Airway V578 Is Amended To Read in Part
Tift Myers, GA VOR | #Alma, GA VORTAC | * 3000
* 2100-MOCA |  |
* 2100-GNSS MEA |  |
#Alma R-263 Unusable Use Tift Myers R-083. |  |
§ 95.6401 Hawaii VOR Federal Airway V1 Is Amended To Read in Part
Kona, HI VORTAC | * Reefs, HI FIX | 5000
* 4100-MCA Reefs, HI FIX, SE BND |  |
Reefs, HI FIX | MOANA, HI FIX | * 2000
* 1300-MOCA |  |
Moana, HI FIX | Rowin, HI FIX | * 4000
* 1300-MOCA |  |
Rowin, HI FIX | *Lavas, HI FIX | ** 8000
** 1300-MOCA |  |
§ 95.6403 Hawaii VOR Federal Airway V3 Is Amended To Read in Part
Mynah, HI FIX | * Jason, HI FIX | 3500
* 5400-MCA JASON, HI FIX, NE BND |  |
Jason, HI FIX | Kamuela, HI VOR/DME | 6700
§ 95.6405 Hawaii VOR Federal Airway V5 Is Amended To Read in Part
Kona, HI VORTAC | * Mynah, HI FIX | 5000
* 4100-MCA Mynah, HI FIX, SE BND |  |
Mynah, HI FIX | Hefti, HI FIX | * 2000
* 1300-MOCA |  |
Hefti, HI FIX | Maken, HI FIX | 6000
§ 95.6407 Hawaii VOR Federal Airway V7 Is Amended To Read in Part
Kona, HI VORTAC | * Reefs, HI FIX | 5000
* 4100-MCA Reefs, HI FIX, SE BND |  |
Reefs, HI FIX | Moana, HI FIX | * 2000
* 1300-MOCA |  |
Moana, HI FIX | Rowin, HI FIX | * 4000
* 1300-MOCA |  |
§ 95.6411 Hawaii VOR Federal Airway V11 Is Amended To Read in Part
Reefs, HI FIX | * Flitt, HI FIX | ** 3000
* 4600-MCA FLITT, HI FIX, N BND |  |
** 2000-MOCA |  |
** 2000-GNSS MEA |  |
Flitt, HI FIX | Upolu Point, HI VORTAC | 5700
§ 95.6420 Hawaii VOR Federal Airway V20 Is Amended To Read in Part
Jorda, HI FIX | * Fires, HI FIX |
* 13000-MRA | NW BND | ** 10000
** 1300-MOCA | SE BND | ** 13000
* Fires, HI FIX | * Hokla, HI FIX | ** 13000
* 13000-MRA |  |
** 1300-MOCA |  |
Hokla, HI FIX | Typho, HI FIX | * 8000
* 1300-MOCA |  |
Typho, HI FIX | * Robyn, HI FIX |
* 3900-MCA Robyn, HI FIX, SE BND | SE BND | ** 3000
** 1300-MOCA | NW BND | ** 8000
Robyn, HI FIX | Kona, HI VORTEC | 5000

From | To | MEA | MAA
§ 95.7001 Jet Routes
§ 95.7045 Jet Route J45 Is Amended To Read in Part
# Alma, GA VORTAC | Macon, GA VORTAC | 18000 | 45000
# Alma R-320 Unusable use Macon R-139 |  |  |
§ 95.7149 Jet Route J149 Is Amended To Read in Part
#Armel, VA VORTAC | Eytee, WV FIX | * 31000 | 41000
* 18000—GNSS MEA |  |  |
# Armel R-281 Unusable BYD 119 NM. NA Except for Aircraft Equipped With Suitable RNAV System With GPS. |  |  |
* GNSS Required. |  |  |
Eytee, WV FIX | Geffs, WV FIX | * 31000 | 41000
* 18000—GNSS MEA |  |  |
* GNSS Required

From | To | Changeover points: Distance | Changeover points: From
§ 95.8003 VOR Federal Airway Changeover Points Airway Segment V119 Is Amended To Add Changeover Point
Newcombe, KY VORTAC | Henderson, WV VORTAC | 32 | Newcombe
V578 Is Amended To Delete Changeover Point
Tift Myers, GA VOR | Alma, GA VORTAC | 26 | Tift Myers

[FR Doc. 2011-19504 Filed 8-1-11; 8:45 am]

BILLING CODE 4910-13-P